DEPARTMENT OF COMMERCE

National Oceanic and Atmospheric Administration

[I.D. 011402E]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Capacity Committee Report in February, 2002. Recommendations from the committee will be brought to the full Council for formal consideration and action, if appropriate.

DATES: The meeting will held on Tuesday, February 5, 2002, at 9:30 a.m.

ADDRESSES: The meeting will be held at the Holiday Inn, 31 Hampshire Street, Mansfield, MA 02048; telephone: (508) 339-2200.

Council address: New England Fishery Management Council, 50 Water Street, Newburyport, MA 01950.

FOR FURTHER INFORMATION CONTACT: Paul J. Howard, Executive Director, New England Fishery Management Council; (978) 465-0492.

SUPPLEMENTARY INFORMATION: The committee will discuss and possibly recommend actions to implement the guidance provided by the Council at the January 2002 Council meeting regarding the possible inclusion of capacity reduction proposals in Amendment 13 to the Multispecies Fishery Management Plan (FMP). They will also refine the list of capacity reduction proposals to be forwarded to the Groundfish Plan Development Team for further analyses and to the Council for consideration. The Council has directed the Committee to make recommendations on revising and combining these proposals for possible inclusion in Amendment 13 to the Multispecies FMP.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: January 15, 2002.
Richard W. Surdi,
Acting Director, Office of Sustainable Fisheries, national Marine Fisheries Service.

[FR Doc. 02-1399 Filed 1-17-02; 8:45 am]

BILLING CODE 3510-22-S